Proclamation 10190 of April 30, 2021

Jewish American Heritage Month, 2021

By the President of the United States of America

A Proclamation

The Jewish American experience is a story of faith, fortitude, and progress. It is a quintessential American experience—one that is connected to key tenets of American identity, including our Nation's commitment to freedom of religion and conscience. This month, we honor Jewish Americans—past and present—who have inextricably woven their experience and their accomplishments into the fabric of our national identity.

Generations of Jewish people have come to this Nation fleeing oppression, discrimination, and persecution in search of a better life for themselves and their children. These Jewish Americans have created lives for themselves and their families and played indispensable roles in our Nation's civic and community life, making invaluable contributions to our Nation through their leadership and achievements.

And this year, we also recognize two historic firsts, as America saw the Vice President take the oath of office alongside her Jewish spouse, and a Jewish American became the first Majority Leader of the United States Senate and the highest-ranking Jewish American elected official in our Nation's history.

Alongside this narrative of achievement and opportunity, there is also a history—far older than the Nation itself—of racism, bigotry, and other forms of injustice. This includes the scourge of anti-Semitism. In recent years, Jewish Americans have increasingly been the target of white nationalism and the antisemitic violence it fuels.

As our Nation strives to heal these wounds and overcome these challenges, let us acknowledge and celebrate the crucial contributions that Jewish Americans have made to our collective struggle for a more just and fair society; leading movements for social justice, working to ensure that the opportunities they have secured are extended to others, and heeding the words of the Torah, “Justice, justice shall you pursue.”

A central concept in Judaism, “l'dor v'dor”, or “from generation to generation,” recognizes both the continuity of the Jewish people and the intergenerational responsibility we have to heal the world for our children. During Jewish American Heritage Month, we honor Jewish Americans, who, inspired by Jewish values and American ideals, have engaged in the ongoing work of forming a more perfect union.

NOW, THEREFORE, I, JOSEPH R. BIDEN JR., President of the United States of America, by virtue of the authority vested in me by the Constitution and the laws of the United States, do hereby proclaim May 2021 as Jewish American Heritage Month. I call upon all Americans to visit www.JewishHeritageMonth.gov to learn more about the heritage and contributions of Jewish Americans and to observe this month with appropriate programs, activities, and ceremonies.

IN WITNESS WHEREOF, I have hereunto set my hand this thirtieth day of April, in the year two thousand twenty-one, and of the Independence of the United States of America the two hundred and forty-fifth.

[FR Doc. 2021-09571

Filed 5-4-21; 8:45 am]

Billing code 3295-F1-P